DEPARTMENT OF HEALTH AND HUMAN SERVICES

Office of the Secretary

Office of Public Health and Science; Statement of Organization, Functions and Delegations of Authority

Part A, Office of the Secretary, of the Statement of Organization, Functions, and Delegations of Authority for the Department of Health and Human Services, Chapter AC “Office of Public Health and Science” as last amended at 66 FR 40288, dated August 2, 2001; is being amended to rename the Office of International and Refugee Health (ACH) and to incorporate the functions for international affairs presently in the Immediate Office of the Secretary, including the Exchange Visitor Waiver Review Board (45 CFR part 50), into the renamed Office of Global Health Affairs. The changes are as follows:

I. Under Part A Chapter AC, “Office of Public Health and Science,” make the following changes:

A. AC.10 Organization. Rename the “Office of International and Refugee Health” (ACH) as the “Office of Global Health Affairs” (ACH).

B. Under Paragraph AC.20 Functions, make the following changes:

1. Under Paragraph B, delete sentence (9) in its entirety and replace with the following: (9) Provides advice on international and refugee health policy and coordinates international health related activities and provides advice on a broad range of health activities that may be intra or interdepartmental in scope; coordinates and manages Departmental liaison with bilateral and multilateral health agencies; and on behalf of the Secretary, chairs and provides staff support for the Exchange Visitor Waiver Review Board;

2. Delete paragraph G. “Office of International and Refugee Health (ACH)” in its entirety and replace with the following:

G. Office of Global Health Affairs (ACH)—The Office of Global Health Affairs (OGHA) provides policy and staffing to the Assistant Secretary for Health, the Deputy Secretary and the Secretary for activities that are of a global nature, including international travel, meetings, and presentations. The Office of Global Health Affairs also has the following major functions: represents the Assistant Secretary for Health and the Secretary in international negotiations on health matters, coordinates and leads Departmental participation in the meetings of multilateral health organizations, including the World Health Organization, the Pan American Health Organization, UNICEF, UNAIDS and other international agencies; represents the Department in interagency working groups on international health issues; in consultation with appropriate OPDIV and STAFFDIV technical and political staff, clears all documents related to international health; reviews and approves international travel for all Departmental employees; promotes cooperative health programs with other countries; coordinates technical and policy-related federal input into refugee health issues; represents the Department on international health issues with other federal departments and agencies, international organizations, the private sector and foreign countries; carries out the Department's responsibilities under the U.S. Exchange Visitor Program; and, ensures protocol at all international functions/events.

Dated: December 10, 2001.
Ed Sontag,
Assistant Secretary for Administration and Management.

[FR Doc. 02-640 Filed 1-9-02; 8:45 am]

BILLING CODE 4150-28-M